DEPARTMENT OF HOUSING AND URBAN DEVELOPMENT

[Docket No. FR-6182-N-01]

Allocations, Common Application, Waivers, and Alternative Requirements for Disaster Community Development Block Grant Disaster Recovery Grantees

Correction

In Notice document 2020-01204, appearing on pages 4681-4690, in the issue of Monday, January 27, 2020, make the following corrections:

1. On page 4683, in Table 1, in the fifth column entitled “Unmet needs allocation under Public Law 116-20”, on the eleventh line, the entry that reads “14,355,000” should read “15,355,000”.

2. On the same page, in the same table, in the sixth column entitled “Total allocation for unmet needs (Pub. L. 115-254 and Pub. L. 116-20)”, on the eleventh line, the entry that reads “13,355,000” should read “15,355,000”.

[FR Doc. C1-2020-01204 Filed 2-20-20; 8:45 am]

BILLING CODE 1301-00-D